DEPARTMENT OF HOMELAND SECURITY

Coast Guard

[Docket No. USCG-2019-0750]

National Offshore Safety Advisory Committee; Initial Solicitation for Members

AGENCY: U.S. Coast Guard, Department of Homeland Security.

ACTION: Request for applications.

SUMMARY: The Coast Guard is requesting applications from persons interested in serving as a member of the National Offshore Safety Advisory Committee (“Committee”). This recently established Committee will advise the Secretary of the Department of Homeland Security on matters relating to activities directly involved with, or in support of, the exploration of offshore mineral and energy resources, to the extent that such matters are within the jurisdiction of the Coast Guard. Please read this notice for a description of the 15 Committee positions we are seeking to fill.

DATES: Your completed application should reach the Coast Guard on or before May 18, 2020.

ADDRESSES: Applicants should send a cover letter expressing interest in an appointment to the National Offshore Safety Advisory Committee and a resume detailing the applicant's experience. We will not accept a biography.

Applications should be submitted via one of the following methods:

• By Email: Patrick.w.clark@uscg.mil (preferred)

• By Fax: 202-372-8382 ; ATTN: Patrick W. Clark@uscg.mil, Alternate Designated Federal Officer; or

• By Mail: Patrick W. Clark, Alternate Designated Federal Officer, Commandant (CG-OES-2), U.S. Coast Guard Stop 7509, 2703 Martin Luther King Jr. Avenue SE, Washington, DC 20593-7509.

FOR FURTHER INFORMATION CONTACT: Patrick W. Clark, Alternate Designated Federal Officer of the National Offshore Safety Advisory Committee; Telephone 202-372-1358; or Email at Patrick.W.Clark@uscg.mil.

SUPPLEMENTARY INFORMATION: The National Offshore Safety Advisory Committee is a Federal advisory committee. It will operate under the provisions of the Federal Advisory Committee Act (5 U.S.C. Appendix 2), and the administrative provisions in Section 601 of the Frank LoBiondo Coast Guard Authorization Act of 2018 (specifically, 46 U.S.C. 15109).

The Committee was established on December 4, 2018, by the Frank LoBiondo Coast Guard Authorization Act of 2018, which added section 15106, National Offshore Safety Advisory Committee, to Title 46 of the U.S. Code (46 U.S.C. 15106). The Committee will advise the Secretary of the Department of Homeland Security on matters relating to activities directly involved with, or in support of, the exploration of offshore mineral and energy resources to the extent that such matters are within the jurisdiction of the Coast Guard.

We expect the Committee will hold meetings at least twice a year, but they may meet even more frequently. They are required to meet at least once a year. The meetings are generally held in Houston, Texas and New Orleans, Louisiana.

All members serve at their own expense and receive no salary or other compensation from the Federal Government.

Under provisions in 46 U.S.C. 15109(f)(6), if you are appointed as a member of the Committee, your membership term will expire on December 31 of the third full year after the effective date of your appointment. The Secretary may require an individual to have passed an appropriate security background examination before appointment to the Committee, 46 U.S.C. 15109(f)(4). In this initial solicitation for Committee members, we will consider applications for all 15 positions:

• Two members shall represent entities engaged in the production of petroleum;

• Two members shall represent entities engaged in offshore drilling;

• Two members shall represent entities engaged in the support, by offshore supply vessels or other vessels, of offshore mineral and oil operations, including geophysical services;

• One member shall represent entities engaged in the construction of offshore exploration and recovery facilities;

• One member shall represent entities engaged in diving services related to offshore construction, inspection, and maintenance;

• One member shall represent entities engaged in safety and training services related to offshore exploration and construction;

• One member shall represent entities engaged in pipelaying services related to offshore construction;

• Two members shall represent individuals employed in offshore operations and, of the two, one shall have recent practical experience on a vessel or offshore unit involved in the offshore mineral and energy industry;

• One member shall represent national environmental entities;

• One member shall represent deepwater ports; and

• One member shall represent the general public (but not a specific environmental group).

Each member of the Committee must have particular expertise, knowledge, and experience of their respective industries.

If you are selected as a member drawn from the general public, you will be appointed and serve as a Special Government Employee as defined in 18 U.S.C. 202(a). Applicants for appointment as a Special Government Employee are required to complete a Confidential Financial Disclosure Report (OGE Form 450) for new entrants and if appointed as a member must submit Form 450 annually. The Coast Guard may not release the reports or the information in them to the public except under an order issued by a Federal Court or as otherwise provided under the Privacy Act (5 U.S.C. 552a). Only the Designated U.S. Coast Guard Ethics Official or his or her designee may release a Confidential Financial Disclosure Report. Applicants can obtain this form by going to the website of the Office of Government Ethics (www.oge.gov), or by calling or emailing the individual listed above in the FOR FURTHER INFORMATION CONTACT section. Applications for member drawn from the general public must be accompanied by a completed OGE Form 450.

Registered lobbyists are not eligible to serve on Federal Advisory Committees in an individual capacity. See “Revised Guidance on Appointment of Lobbyists to Federal Advisory Committees, Boards and Commissions” (79 FR 47482, August 13, 2014). Registered lobbyists are “lobbyists,” as defined in 2 U.S.C. 1602, who are required by 2 U.S.C. 1603 to register with the Secretary of the Senate and the Clerk of the House of Representatives.

The Department of Homeland Security does not discriminate in selection of Committee members on the basis of race, color, religion, sex, national origin, political affiliation, sexual orientation, gender identity, marital status, disabilities and genetic information, age, membership in an employee organization, or any other non-merit factor. The Department of Homeland Security strives to achieve a widely diverse candidate pool for all of its recruitment selections.

If you are interested in applying to become a member of the Committee, send your cover letter and resume to Patrick Clark, Alternate Designated Federal Officer of the National Offshore Safety Advisory Committee via one of the transmittal methods in the ADDRESSES section by the deadline in the DATES section of this notice. If you send your application to us via email, we will send you an email confirming receipt of your application.

Dated: March 11, 2020.
Jeffrey G. Lantz,
Director of Commercial Regulations and Standards.

[FR Doc. 2020-05382 Filed 3-16-20; 8:45 am]

BILLING CODE 9110-04-P